DEPARTMENT OF LABOR

Office of the Secretary

Submission for OMB Review; Comment Request

October 31, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation, contact Darrin King on (202) 693-4129 or e-Mail: King-Darrin@dol.gov.

Comments should be sent to Office of Information and Regulatory Affairs, Attn: OMB Desk Officer for Department of Labor, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

AGENCY: Women's Bureau.

Type of Review: Extension of a currently approved collection.

Title: Women in Apprenticeship and Nontraditional Occupations (WANTO) Act Grant application and Reporting Requirements.

OMB Number: 1225-0080.

Frequency: Annually and Quarterly.

Affected Public: Not-for-profit institutions.

Number of Respondents: 55.

Requirement | Frequency | Estimated number of responses | Average response time (hours) | Estimated annual burden hours
Grant Application:
Previous Applicant | Annually | 40 | 6 | 240
New Applicant | Annually | 15 | 12 | 180
Quarterly Reports:
Previous Applicant | Quarterly | 36 | 2 | 72
New Applicant | Quarterly | 8 | 5 | 40
Final Report:
Previous Applicant | Annually | 9 | 4 | 36
New Applicant | Annually | 2 | 10 | 20
Totals |  | 110 |  | 588

Total Annualized Capital/Startup Costs: $0.

Total Annual Costs (operating/maintaining systems or purchasing services): $0.

Description: This collection of information is needed for the Department of Labor to select annual Women in Apprenticeship and Nontraditional Occupations (WANTO) grant awardees and to monitor awardees' administration of the grant.

Ira L. Mills,
Departmental Clearance Officer.

[FR Doc. 02-28379 Filed 11-6-02; 8:45 am]

BILLING CODE 4510-23-P